FEDERAL COMMUNICATIONS COMMISSION

47 CFR Part 73

[DA 02-1729; MM Docket No. 01-296; RM-10299]

Radio Broadcasting Services; Roscommon, MI

AGENCY: Federal Communications Commission.

ACTION: Proposed rule; withdrawal.

SUMMARY: This document dismisses a petition for rulemaking filed by Charles Crawford requesting the allotment of Channel 246A at Roscommon, Michigan. See 66 FR 54191, October 26, 2001. Charles Crawford withdrew his interest in the allotment of Channel 246A at Roscommon, Michigan. With this action, this proceeding is terminated.

FOR FURTHER INFORMATION CONTACT: Kathleen Scheuerle, Media Bureau, (202) 418-2180.

SUPPLEMENTARY INFORMATION: This is a summary of the Commission's Report and Order, MM Docket No. 01-296, adopted July 10, 2002, and released July 19, 2002. The full text of this Commission decision is available for inspection and copying during regular business hours in the FCC Reference Information Center, Portals II, 445 Twelfth Street, SW., Room CY-A257, Washington, DC, 20554. The complete text of this decision may also be purchased from the Commission's duplicating contractor, Qualex International, Portals II, 445 Twelfth Street, SW., Room CY-B402, Washington, DC, 20554, telephone 202-863-2893, facsimile 202-863-2898, or via e-mail qualexint@aol.com.

Federal Communications Commission.
John A. Karousos,
Assistant Chief, Audio Division, Media Bureau.

[FR Doc. 02-19742 Filed 8-5-02; 8:45 am]

BILLING CODE 6712-01-P